AGENCY FOR INTERNATIONAL DEVELOPMENT

Advisory Committee on Voluntary Foreign Aid; Notice of Meeting

Pursuant to the Federal Advisory Committee Act, notice is hereby given of a meeting of the Advisory Committee on Voluntary Foreign Aid (ACVFA).

Date: Wednesday, May 25, 2005 (9 a.m. to 4:30 p.m.).

Location: The National Press Club, 529 14th Street, NW., Washington, DC 20045.

The meeting will open with a keynote address by USAID Administrator Andrew Natsios. He will discuss democratic governance and civil society.

Following the Administrator's presentation, James Smith, Acting Assistant Administrator for USAID's Bureau for Economic Growth, Agriculture and Trade will present the agency's new education strategy followed by a panel discussion with Stephen Moseley, President of the Academy for Educational Development and John Grayzel, Director of the Office of Education in USAID's Bureau for Economic Growth, Agriculture and Trade.

Following lunch, participants will be invited to attend concurrent panel sessions on either USAID's Arab and Muslim outreach strategy or tsunami relief and reconstruction. Panelists include Samah Alrayyes with USAID's Bureau for Legislative and Public Affairs, Nancy Aossey, President and CEO of International Medical Corps, Ken Isaacs, Director of USAID's Office of Foreign Disaster Assistance, Iqbal Noor Ali, CEO of the Aga Khan Foundation USA, Michael Nyenhuis, President of MAP International, Ann Phillips with USAID's Bureau for Policy and Program Coordination and Mark Ward, Deputy Assistant Administrator for the Bureau for Asia and the Near East. Following the panel sessions, participants will reconvene for recommendations and a final wrap-up. Participants will have an opportunity to ask questions of the speakers and participate in the discussion.

The meeting is free and open to the public. Persons wishing to attend the meeting can register online at http://www.usaid.gov/about_usaid/acvfa or e-mail their name to Barbara Underwood at barbara@websterconsulting.com or Jocelyn Rowe at jrowe@usaid.gov.

Dated: April 29, 2005.
Jocelyn M. Rowe,
Executive Director, Advisory Committee on Voluntary Foreign Aid (ACVFA), U.S. Agency for International Development.

[FR Doc. 05-8942 Filed 5-4-05; 8:45 am]

BILLING CODE 6116-01-P